DEPARTMENT OF DEFENSE

Office of the Secretary

[Transmittal No. 24-60]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-60, and Policy Justification.

Dated: November 13, 2025.
Aaron T. Siegel,
Alternate OSD Federal Register Liaison Officer, Department of Defense.

BILLING CODE 6001-FR-P

BILLING CODE 6001-FR-C

Transmittal No. 24-60

Notice of Proposed Issuance of Letter of Offer Pursuant to Section 36(b)(1) of the Arms Export Control Act, as amended

(i) Prospective Purchaser: Government of Iraq

(ii) Total Estimated Value:

Major Defense Equipment * | $ 0
Other | $65 million
TOTAL | $65 million

Funding Source: Foreign Military Financing

(iii) Description and Quantity or Quantities of Articles or Services under Consideration for Purchase: Foreign Military Sales case IQ-P-GAZ was below congressional notification threshold at $39 million ($0 in MDE) and included follow-on technical support (FOTS) for Iraq's vessel maintenance and repair (VMR) program and fuel for quarterly tri-lateral exercises conducted by the United States, Kuwait, and Iraq. The Government of Iraq has requested that the case be amended to allow for the continuance of FOTS for the VMR program. This amendment will cause the case to exceed the notification threshold, and thus notification of the entire program is required. The above notification requirements are combined as follows:

Major Defense Equipment (MDE):

None

Non-MDE:

FOTS of the VMR program, which may include ship repair; maintenance; sustainment; support services; repair; upgrades; overhaul services; associated labor and support; U.S. Government and contractor engineering, technical, and logistics support services of off-shore vessels, patrol boats and defenders of U.S. origin; fuel for quarterly tri-lateral exercises; and other related elements of logistics and program support.

(iv) Military Department: Navy (IQ-P-GAZ)

(v) Prior Related Cases, if any: IQ-P-GAV

(vi) Sales Commission, Fee, etc., Paid, Offered, or Agreed to be Paid: None known at this time

(vii) Sensitivity of Technology Contained in the Defense Article or Defense Services Proposed to be Sold: None

(viii) Date Report Delivered to Congress: September 24, 2024

* as defined in Section 47(6) of the Arms Export Control Act.

POLICY JUSTIFICATION

Iraq—Follow-On Technical Support for Vessel Maintenance and Repair

The Government of Iraq has requested to buy additional services that will be added to a previously implemented case whose value was under the congressional notification threshold. The original Foreign Military Sales case, valued at $39 million, included follow-on technical support (FOTS) for vessel maintenance and repair (VMR), which may include ship repair; maintenance; sustainment; support services; repair; upgrades; overhaul services; associated labor and support; U.S. Government and contractor engineering, technical, and logistics support services of off-shore vessels, patrol boats and defenders of U.S. origin; fuel for quarterly tri-lateral exercises; and other related elements of logistics and program support. This notification is for the continuation of this support and services. The estimated total cost is $65 million.

This proposed sale will support the foreign policy and national security of the United States by helping to improve the security of a strategic partner.

The proposed sale will improve Iraq's capability to meet current and future threats by enhancing the strength of its homeland defense. Iraq will have no difficulty absorbing these services into its armed forces.

The proposed sale of this equipment and services will not alter the basic military balance in the region.

The principal contractor will be Amentum, located in Chantilly, VA. There are no known offset agreements proposed in connection with this potential sale.

Implementation of this proposed sale will require the assignment of approximately sixty-five contractor representatives from various nationalities to be stationed in Iraq annually to support the VMR program.

There will be no adverse impact on U.S. defense readiness as a result of this proposed sale.

[FR Doc. 2025-20081 Filed 11-17-25; 8:45 am]

BILLING CODE 6001-FR-P